DEPARTMENT OF JUSTICE

Drug Enforcement Administration

[Docket No. DEA-392]

Manufacturer of Controlled Substances Registration: Ampac Fine Chemicals, LLC

ACTION: Notice of registration.

SUMMARY: AMPAC Fine Chemicals, LLC applied to be registered as a manufacturer of certain basic classes of controlled substances. The DEA grants AMPAC Fine Chemicals, LLC registration as a manufacturer of the controlled substances.

SUPPLEMENTARY INFORMATION: By notice dated June 10, 2014, and published in the Federal Register on June 17, 2014, 79 FR 34553, AMPAC Fine Chemicals LLC, Highway 50 and Hazel Avenue, Building 05001, Rancho Cordova, California 95670, applied to be registered as a manufacturer of certain basic classes of controlled substances. No comments or objections were submitted to this notice.

The Drug Enforcement Administration (DEA) has considered the factors in 21 U.S.C. 823(a) and determined that the registration of AMPAC Fine Chemicals, LLC to manufacture the basic classes of controlled substances is consistent with the public interest and with United States obligations under international treaties, conventions, or protocols in effect on May 1, 1971. The DEA investigated the company's maintenance of effective controls against diversion by inspecting and testing the company's physical security systems, verifying the company's compliance with state and local laws, and reviewing the company's background and history.

Therefore, pursuant to 21 U.S.C. 823(a), and in accordance with 21 CFR 1301.33, the above-named company is granted registration as a bulk manufacturer of the basic classes of controlled substances:

Controlled substance | Schedule
Methylphenidate (1724) | II
Thebaine (9333) | II
Poppy Straw Concentrate (9670) | II
Tapentadol (9780) | II

The company is a contract manufacturer. In reference to poppy straw concentrate the company will manufacture thebaine intermediates for sale to its customers for further manufacture. No other activity for this drug code is authorized for this registration.

Dated: January 9, 2015.
Joseph T. Rannazzisi,
Deputy Assistant Administrator.

[FR Doc. 2015-01296 Filed 1-23-15; 8:45 am]

BILLING CODE 4410-09-P